DEPARTMENT OF HEALTH AND HUMAN SERVICES

National Institutes of Health

Center for Scientific Review; Amended Notice of Meeting

Notice is hereby given of a change in the meeting of the HIV Coinfections and HIV Associated Cancers Study Section (HCAC), July 11, 2023, 7:30 a.m. to 8:00 p.m., Residence Inn Washington, DC Downtown, 1199 Vermont Avenue NW, Washington, DC 20005, which was published in the Federal Register on June 13, 2023, 88 FRN 38520 Doc 2023-12605.

This notice is being amended to change the meeting dates from July 11-12, 2023 to July 11, 2023. The meeting is closed to the public.

Dated: June 15, 2023.
Melanie J. Pantoja,
Program Analyst, Office of Federal Advisory Committee Policy.

[FR Doc. 2023-13210 Filed 6-21-23; 8:45 am]

BILLING CODE 4140-01-P